DEPARTMENT OF ENERGY

Federal Energy Regulatory Commission

[Project No. 2610-012; Project No. 2587-066]

Northern States Power Company; Notice of Scoping Meetings and Environmental Site Reviews and Soliciting Scoping Comments

Take notice that the following hydroelectric applications have been filed with the Commission and are available for public inspection.

a. Type of Applications: Subsequent Minor (P-2610-012), New Major License (P-2587-066).

b. Project Nos.: P-2610-012 and P-2587-066.

c. Date Filed: December 30, 2022.

d. Applicant: Northern States Power Company, a Wisconsin Corporation.

e. Names of Projects: Saxon Falls Hydroelectric Project (Saxon Project) and Superior Falls Hydroelectric Project (Superior Project).

f. Location: The projects are located on the Montreal River in Gogebic County, Michigan and Iron County, Wisconsin near the cities of Ironwood, Michigan and Hurley, Wisconsin.

g. Filed Pursuant to: Federal Power Act 16 U.S.C. 791(a)-825(r).

h. Applicant Contact: Matthew Miller, Hydro License Consultant, Northern States Power Company, 1414 West Hamilton Avenue, P.O. Box 8, Eau Claire, Wisconsin 54702-0008; telephone at (715) 737-1353 or email at matthew.j.miller@xcelenergy.com.

i. FERC Contact: Nicholas Ettema, telephone at (312) 596-4447; or email at nicholas.ettema@ferc.gov.

j. Deadline for filing scoping comments: October 28, 2023.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. All filings must clearly identify the following on the first page: Saxon Project No. 2610-012, and/or Superior Project No. 2587-066.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. The applications are not ready for environmental analysis at this time.

l. Project Descriptions:

Saxon Project

The Saxon Project consists of an Ambursen-type buttress concrete dam that includes: (1) a 250-foot-long non-overflow earthen embankment; (2) a 57-foot-long non-overflow concrete section; (3) a 31-foot-long non-overflow concrete section with a 19-foot-long, 36.6-foot-high intake structure equipped with a flap gate and a trashrack with 1-inch clear bar spacing; (4) a 30-foot-long concrete section with a 13-foot-high steel Tainter gate; (5) a 127-foot-long spillway section with a crest elevation of 997.0 feet National Geodetic Vertical Dam of 1929 (NGVD 29); and (6) a 23.5-foot-long north abutment section.

The Saxon Project's dam creates an impoundment with a surface area of approximately 70 acres at an elevation of 997.0 feet NGVD 29. From the impoundment, water flows through the intake structure to a 1,607-foot-long steel conduit, a surge tank, and two steel penstocks. From the penstocks, water is conveyed to a powerhouse that contains two 750-kilowatt (kW) horizontal turbine-generator units, for a total installed capacity of 1,500 kW. Water is discharged from the powerhouse directly to the Montreal River. The Saxon Project creates an approximately 2,400-foot-long bypassed reach of the Montreal River. A minimum flow pipe extends from the 31-foot-long non-overflow section of the dam to provide flow to the bypassed reach.

Electricity generated at the powerhouse is transmitted to the electric grid via an approximately 1,000-foot-long, 2.4-kilovolt (kV) overhead transmission line, a 2.4/34.5-kV step-up transformer, and a 12-mile-long, 34.5-kV transmission line.

Project recreation facilities include: (1) a canoe take-out site, boat ramp, and parking area on the southern shore of the impoundment; and (2) a tailwater access site and parking area on the southern shoreline of the Montreal River, opposite of the powerhouse.

Northern States Power operates the project in run-of-river mode, such that project outflow approximates inflow to the impoundment. The current license requires Northern States Power to: (1) minimize fluctuations of the impoundment surface elevation; (2) maintain a minimum impoundment elevation of 997.0 feet NGVD 29 from ice-out through June 1 each year; and (3) from June 2 through ice-out, maintain an impoundment elevation between a minimum of 996.5 and a maximum of 997.0 feet NGVD 29. The current license also requires Northern States Power to release a minimum flow of 5 cubic feet per second (cfs) or inflow, whichever is less, to the bypassed reach from ice-out through October 31 (ice-free season) each year, to protect aquatic and aesthetic resources. The average annual energy production of the Saxon Project from 2017 through 2021 was 10,015.3 MWh.

Northern States Power proposes to revise the Saxon Project boundary around the impoundment to follow a contour elevation of 997.0 feet NGVD 29, which would result in a reduction in the total acreage of the project boundary upstream of the project dam, from 159 acres to 71.7 acres. Additionally, Northern States Power proposes to add 2.7 acres of land to the project boundary near the dam and remove 20 acres of land from the project boundary along the bypassed reach and river downstream of the powerhouse.

Northern States Power proposes to continue operating the Saxon Project in run-of-river mode and maintain water surface elevations as described above with the exception of the maximum impoundment elevation of the Saxon Project from June 2 through ice-out. In addition, Northern States Power proposes to release a minimum aesthetic flow of 5 cfs or inflow, whichever is less, from the Saturday before Memorial Day to October 15, except on weekends and holidays, when a minimum aesthetic flow of 10 cfs or inflow, whichever is less, would be released from 8:00 a.m. to 8:00 p.m.

Superior Project

The Superior Project consists of an Ambursen-type buttress concrete dam that includes: (1) a west abutment section; (2) a 45-foot-long section with a 41.4-foot-long west spillway; (3) a 22-foot-long section with a west steel Tainter gate; (4) an 18.6-foot-long section with an 11.5-foot-long east ogee spillway section with a crest elevation of 740.2 feet NGVD 29, and two sluice gates; (5) a 40.5-foot-long section with two 16-foot-long, 18-foot-high east steel Tainter gates; (6) a 70-foot-long non-overflow section with a 23-foot-long, 29.25-foot-high intake structure equipped with a timber headgate and a trashrack with 1-inch clear bar spacing; and (7) an east abutment section.

The Superior Project's dam creates an impoundment with a surface area of 16.3 acres at an elevation of 740.2 feet NGVD 29. From the impoundment, water flows through the intake structure to a 7-foot-diameter, 1,697-foot-long concrete conduit, a 28-foot-diameter, 41-foot-high concrete and steel surge tank, and two 4.5-foot-diameter, 207-foot-long steel penstocks. From the penstocks, water is conveyed to a 32-foot-long, 62-foot-wide concrete powerhouse that contains two 825-kW horizontal Francis turbine-generator units, for a total installed capacity of 1,650 kW. Water is discharged from the powerhouse to an approximately 80-foot-long, 55-foot-wide tailrace. The Superior Project creates an approximately 1,900-foot-long bypassed reach of the Montreal River.

Electricity generated at the powerhouse is transmitted to the electric grid via a 200-foot-long, 2.4-kV overhead transmission line and a 2.4/34.5-kV step-up transformer located in a substation approximately 150 feet west of the powerhouse.

Recreation facilities at the Superior Project include: (1) a canoe take-out site and an associated 5-vehicle parking area on the western shoreline of the impoundment, approximately 1,050 feet upstream of the dam; (2) a scenic overlook site on the eastern shoreline of the bypassed reach, approximately 480 feet upstream of the tailrace; (3) a fishing area on the eastern shoreline of the tailrace; and (4) a parking area and access trails for the scenic overlook and fishing area.

Northern States Power proposes to reduce the total acreage of the project boundary upstream of the project dam from 296.4 acres to 22.2 acres. Additionally, Northern States Power proposes to add 3.9 acres of land near the powerhouse to the project boundary, remove 35 acres of land east of State Highway 122, and remove 11.1 acres of land along the bypassed reach.

Northern States Power proposes to continue operating the Superior Project in run-of-river mode and maintain water surface elevations and minimum flows as described above.

m. Copies of the applications can be viewed on the Commission's website at https://www.ferc.gov using the “eLibrary” link. Enter the project's docket number excluding the last three digits in the docket number field to access the document. For assistance, contact FERC Online Support.

You may also register at https://ferconline.ferc.gov/FERCOnline.aspx to be notified via email of new filings and issuances related to this or other pending projects. For assistance, please contact FERC Online Support at FERCOnlineSupport@ferc.gov.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

n. Scoping Process: Pursuant to the National Environmental Policy Act (NEPA), Commission staff intends to prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS.

Scoping Meetings

Commission staff will hold two public scoping meetings for the projects to receive input on the scope of the environmental issues that should be analyzed in the NEPA document. An evening meeting will be held at 7:00 p.m. on September 27, 2023, at the City Hall of Hurley, Wisconsin, and will focus on receiving input from the public. A daytime meeting will be held at 9:00 a.m. on September 28, 2023, at the same location, and will focus on the concerns of resource agencies, non-governmental organizations (NGOs), and Indian Tribes. We invite all interested agencies, Indian Tribes, non-governmental organizations, and individuals to attend one or both of these meetings. The times and locations of these meetings are as follows:

Evening Scoping Meeting

Date: Wednesday, September 27, 2023

Time: 7:00 p.m. (CDT)

Place: City Hall of Hurley

Address: 405 5th Avenue North, Hurley, WI 54534

Daytime Scoping Meeting

Date: Thursday, September 28, 2023

Time: 9:00 a.m. (CDT)

Place: City Hall of Hurley

Address: 405 5th Avenue North, Hurley, WI 54534

Copies of the Scoping Document (SD1) outlining the proposed project and subject areas to be addressed in the NEPA document were distributed to the parties on the Commission's mailing list. Copies of the SD1 will be available at the scoping meeting or may be viewed on the web at http://www.ferc.gov using the “eLibrary” link (see item m above).

Environmental Site Reviews

The applicant and Commission staff will conduct environmental site reviews of the projects. All interested individuals, agencies, Indian Tribes, and NGOs are invited to attend. All participants are responsible for their own transportation to the sites and during the site visits. Please RSVP via email to matthew.j.miller@xcelenergy.com or notify Matthew Miller at 715-737-1353 on or before Friday, September 22, 2023, if you plan to attend the environmental site reviews. The times and locations of the environmental site reviews are as follows:

Saxon Falls and Superior Falls Hydroelectric Projects

Date: Wednesday, September 27, 2023

Time: 10:00 a.m. (CDT)

Place: Superior Falls Hydroelectric Project

Participants will meet at the Superior Falls parking lot for the powerhouse of the Superior Project, which is located on Lake Superior Rd, immediately adjacent to the west side of Lake County Park (Latitude 46.56494/Longitude-90.41523). Immediately following the site review at the Superior Project, participants will proceed to the Saxon Project. All participants are responsible for their own transportation and must wear sturdy, closed-toe shoes, or boots.

Objectives

At the scoping meetings, Commission staff will: (1) summarize the environmental issues tentatively identified for analysis in the NEPA document; (2) solicit from the meeting participants all available information, especially quantifiable data, on the resources at issue; (3) encourage statements from experts and the public on issues that should be analyzed in the NEPA document, including viewpoints in opposition to, or in support of, the staff's preliminary views; (4) determine the resource issues to be addressed in the NEPA document; and (5) identify those issues that require a detailed analysis, as well as those issues that do not require a detailed analysis.

Procedures

The meetings are recorded by a stenographer and become part of the formal record of the Commission proceeding on the project. Individuals, NGOs, Indian Tribes, and agencies with environmental expertise and concerns are encouraged to attend the meeting and to assist the staff in defining and clarifying the issues to be addressed in the NEPA document.

Dated: August 25, 2023.
Kimberly D. Bose,
Secretary.

[FR Doc. 2023-18872 Filed 8-30-23; 8:45 am]

BILLING CODE 6717-01-P